DEPARTMENT OF TRANSPORTATION

Office of the Secretary

Aviation Proceedings, Agreements Filed the Week Ending May 30, 2003

The following Agreements were filed with the Department of Transportation under the provisions of 49 U.S.C. 412 and 414. Answers may be filed within 21 days after the filing of the application.

Docket Number: OST-2003-15275.

Date Filed: May 27, 2003.

Parties: Members of the International Air Transport Association.

Subject: PTC31 South 0141 dated 23 May 2003, TC31 South Pacific Expedited Resolution 015v, Intended effective date: July 1, 2003.

Dorothy Y. Beard,
Chief, Docket Operations & Media Management, Federal Register Liaison.

[FR Doc. 03-14584 Filed 6-9-03; 8:45 am]

BILLING CODE 4910-62-P